DEPARTMENT OF ENERGY

Federal Energy Regulatory Commission

[Docket No. EC00-121-000, et al.]

The southern Company and Southern Energy, Inc., et al; Electric Rate and Corporate Regulation Filings

August 11, 2000.

Take notice that the following filings have been made with the Commission:

1. The Southern Company and Southern Energy, Inc.

[Docket No. EC00-121-000]

Take notice that on August 9, 2000, The Southern Company and Southern Energy, Inc. (collectively Applicants) filed corrections to the “Joint Application of The Southern Company and Southern Energy, Inc. Pursuant to Section 203 of the Federal Power Act for Authorization to Accomplish the Disposition of Jurisdictional Assets Through Divestiture and Request for Expedited Approval” filed with the Federal Energy Regulatory Commission on August 4, 2000, in the above-referenced docket, as well as redlined pages showing the changes made (August 4th Filing). In addition, the Applicants tendered a supplement to Exhibit H of the August 4th Filing.

Comment date: September 5, 2000, in accordance with Standard Paragraph E at the end of this notice.

2. National Grid USA, TransCanada OSP Holdings Ltd.

[Docket No. EC00-122-000]

Take notice that on August 8, 2000, National Grid USA (National Grid USA) and TransCanada OSP Holdings Ltd. (TCOSP) tendered for filing an Application requesting Commission approval under Section 203 of the Federal Power Act (FPA) in connection with the sale of certain upstream ownership interests in Ocean State Power and Ocean State Power II, which are “public utilities” under Section 201 of the FPA.

Comment date: September 7, 2000, in accordance with Standard Paragraph E at the end of this notice.

3. Wise County Power Company, LLC

[Docket No. EG00-240-000]

Take notice that on August 9, 2000, Wise County Power Company, LLC (Applicant), with its principal office at 1177 West Loop South, Suite 900, Houston, Texas 77027, filed with the Federal Energy Regulatory Commission (Commission) an application for determination of exempt wholesale generator status pursuant to Part 365 of the Commission's regulations.

Applicant will be engaged in owning and operating an electric generating facility with a capacity which consists of approximately 800 MW located near Bridgeport, in Wise County, Texas. The Applicant will sell electric energy exclusively at wholesale.

Comment date: September 1, 2000, in accordance with Standard Paragraph E at the end of this notice. The Commission will limit its consideration of comments to those that concern the adequacy or accuracy of the application.

4. JPower, Inc.

[Docket No. ER00-2921-000]

Take notice that on August 2, 2000, JPower, Inc. filed a letter requesting an official withdrawal of their July 13, 2000 filing of a notice to change the status of Jpower.

Comment date: August 21, 2000, in accordance with Standard Paragraph E at the end of this notice.

5. Corpus Christi Cogeneration LP

[Docket No. QF98-39-001]

Take notice that on June 26, 2000, as supplemented on July 25, 2000, Corpus Christi Cogeneration LP located at Edens Corporate Center, 650 Dundee Road, Suite 350, Northbrook, IL 60062, filed with the Federal Energy Regulatory Commission, an application for certification of the Corpus Christi Energy Center as a qualifying cogeneration facility pursuant to Section 292.207(b) of the Commission's regulations, 18 CFR 292.207(b). No determination has been made that the submittal constitutes a complete filing.

The facility located at the Corpus Christi Energy Center is a gas turbine combined cycle cogeneration facility that uses natural gas as its fuel source. The facility includes two combustion turbine generators, with a rated capacity of approximately 166,250 kW at 72 °F, a heat recovery steam turbine generator rated approximately 180,000 kW. The facility will be located in Corpus Christi, TX, in the county of Nueces.

The facility will interconnect directly and with the transmission system of Central Power and Light Company, and will sell its electric power output at wholesale to Central Power and Light Company as well as other various qualified buyers. Central Power and Light Company or other qualified suppliers will provide supplementary, standby, back-up and maintenance power to the Corpus Christi Energy Center.

Comment date: September 1, 2000, in accordance with Standard Paragraph E at the end of this notice.

6. California Independent System Operator Corporation

[Docket No. ER00-3376-000]

Take notice that on August 8, 2000, the California Independent System Operator Corporation (ISO), tendered for filing a Notice of Termination for its Meter Service Agreement for Scheduling Coordinators with Edison Source.

The ISO requests that the Termination be made effective as of August 8, 2000.

The ISO states that this filing has been served on all parties on the official service list maintained by the Secretary for the above-referenced docket.

Comment date: August 29, 2000, in accordance with Standard Paragraph E at the end of this notice.

7. California Independent System Operator Corporation

[Docket No. ER00-3377-000]

Take notice that on August 8, 2000, the California Independent System Operator Corporation (ISO), tendered for filing a Notice of Termination for its Scheduling Coordinator Agreement with Edison Source.

The ISO requests that the Termination be made effective as of August 8, 2000.

The ISO states that this filing has been served on all parties on the official service list maintained by the Secretary for the above-referenced docket.

Comment date: August 29, 2000, in accordance with Standard Paragraph E at the end of this notice.

8. Allegheny Power Service Corporation, on behalf of Monongahela Power Company, The Potomac Edison Company, and West Penn Power Company (Allegheny Power)

[Docket No. ER00-3378-000]

Take notice that on August 8, 2000, Allegheny Power Service Corporation on behalf of Monongahela Power Company, The Potomac Edison Company and West Penn Power Company (Allegheny Power), tendered for filing Service Agreement No. 319 to add DTE Energy Marketing, Inc., to Allegheny Power's Open Access Transmission Service Tariff.

The proposed effective date under the agreement is August 7, 2000.

Copies of the filing have been provided to the Public Utilities Commission of Ohio, the Pennsylvania Public Utility Commission, the Maryland Public Service Commission, the Virginia State Corporation Commission, and the West Virginia Public Service Commission.

Comment date: August 29, 2000, in accordance with Standard Paragraph E at the end of this notice.

9. Southern Indiana Gas and Electric Company

[Docket No. ER00-3379-000]

Take notice that on August 8, 2000, Southern Indiana Gas and Electric Company (SIGECO), tendered for filing the following agreements concerning the provision of electric service as umbrella service agreements under its market-based Wholesale Power Sales Tariff:

1. Wholesale Energy Service Agreement dated June 30, 2000, by and between Southern Indiana Gas and Electric Company and New Energy, Inc.

2. Wholesale Energy Service Agreement dated July 7, 2000, by and between Southern Indiana Gas and Electric Company and PG&E Energy Trading—Power, L.P.

Comment date: August 29, 2000, in accordance with Standard Paragraph E at the end of this notice.

10. MidAmerican Energy Company

[Docket No. ER00-3380-000]

Take notice that on August 8, 2000, MidAmerican Energy Company (MidAmerican), 666 Grand Avenue, Des Moines, Iowa 50309, tendered for filing with the Commission a Firm Transmission Service Agreement with Ames Municipal Electric System (Ames Municipal), dated July 10, 2000, and a Non-Firm Transmission Service Agreement with Ames Municipal, dated July 10, 2000, entered into pursuant to MidAmerican's Open Access Transmission Tariff.

MidAmerican requests an effective date of July 10, 2000 for the Agreements with Ames Municipal, and accordingly seeks a waiver of the Commission's notice requirement.

MidAmerican has served a copy of the filing on Ames Municipal Electric System, the Iowa Utilities Board, the Illinois Commerce Commission and the South Dakota Public Utilities Commission.

Comment date: August 29, 2000, in accordance with Standard Paragraph E at the end of this notice.

11. MidAmerican Energy Company

[Docket No. ER00-3381-000]

Take notice that on August 8, 2000, MidAmerican Energy Company (MidAmerican), 666 Grand Avenue, Des Moines, Iowa 50309, tendered for filing with the Commission a Firm Transmission Service Agreement and a Non-Firm Transmission Service Agreement entered into by MidAmerican, as a transmission provider, with MidAmerican, as a wholesale merchant. Both Agreements, which are dated July 12, 2000 and entered into pursuant to MidAmerican's Open Access Transmission Tariff, provide for Direct Assignment Facility Charges.

MidAmerican requests an effective date of July 12, 2000 for the Agreements and seeks a waiver of the Commission's notice requirement.

MidAmerican has served a copy of the filing on the Iowa Utilities Board, the Illinois Commerce Commission and the South Dakota Public Utilities Commission.

Comment date: August 29, 2000, in accordance with Standard Paragraph E at the end of this notice.

12. PJM Interconnection, L.L.C.

[Docket No. ER00-3385-000]

Take notice that on August 9, 2000, PJM Interconnection, L.L.C. (PJM), tendered for filing the following revised sheets to the Appendix to Attachment K of PJM's Open Access Transmission Tariff (Tariff) on file with the Commission:

Fifth Revised Sheet No. 172

Fourth Revised Sheet No. 173

Third Revised Sheet No. 174

First Revised Sheet No. 174A

Original Sheet No. 174B

and identical changes to the following pages of Schedule 1 of the Amended and Restated Operating Agreement of PJM Interconnection, L.L.C. (OA):

Original Sheet No. 97

Original Sheet No. 98

Second Revised Sheet No. 99

Second Revised Sheet No. 99A

Original Sheet No. 99B

PJM states that the revised sheets contain revisions to the rules governing energy offers that include minimum run times during a Maximum Generation Emergency. PJM states that these revisions result from the PJM stakeholders' ongoing collaborative process and have been unanimously approved by the PJM Members Committee.

PJM requests an effective date of August 10, 2000 for these revised Tariff and OA sheets. PJM states that the requested effective date will allow the stakeholder-approved revisions to take effect for the remainder of the summer season, which is the period when Maximum Generation Emergencies are most likely to occur.

Comment date: August 24, 2000, in accordance with Standard Paragraph E at the end of this notice.

13. Northern Maine Independent System Administrator, Inc.

[Docket No. ER00-2791-001]

Take notice that on August 9, 2000, Northern Maine Independent System Administrator, Inc. (NMISA), tendered for filing an amendment to its June 12, 2000 filing in this proceeding. The Amendment includes (i) an Order No. 614-compliant version of the NMISA Tariff; (ii) Service Agreement Nos. 1-7 to the NMISA Tariff; and (iii) notices of cancellation for NMISA Rate Schedule No. 1 and Nos. 3 through 9.

Comment date: August 30, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-21019 Filed 8-17-00; 8:45 am]

BILLING CODE 6717-01-U